COMMITTEE FOR THE IMPLEMENTATION OF TEXTILE AGREEMENTS

Announcement of Import Restraint Limits for Certain Cotton, Man-Made Fiber, Silk Blend and Other Vegetable Fiber Textiles and Textile Products Produced or Manufactured in India and Extension of Suspension of Group II Restriction for Certain Man-Made Fiber Textile Products Produced or Manufactured in India

December 13, 2000.

AGENCY: Committee for the Implementation of Textile Agreements (CITA).

ACTION: Issuing a directive to the Commissioner of Customs establishing limits and extending suspension of the Group II restriction for certain products from India.

EFFECTIVE DATE: January 1, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The import restraint limits for textile products, produced or manufactured in India and exported during the period January 1, 2001 through December 31, 2001 are based on limits notified to the Textiles Monitoring Body pursuant to the Uruguay Round Agreement on Textiles and Clothing (ATC).

In addition, a document published in the Federal Register on December 16, 1999 (64 FR 70219) announced the extension of the suspension of the Group II restriction for rayon filament yarn in HTS number 5403.31.0040 in Category 606 from India for the period January 1, 2000 through December 31, 2000. Also see 62 FR 60826, published on November 13, 1997.

The Committee for the Implementation of Textile Agreements has decided to extend the suspension for an additional twelve-month period beginning on January 1, 2001 and extending through December 31, 2001. A visa is still required for this product.

In the letter published below, the Chairman of CITA directs the Commissioner of Customs to establish the 2001 limits and extend the suspension of the Group II restriction. The 2001 limits for certain categories have been reduced for carryforward applied to the 2000 limits.

A description of the textile and apparel categories in terms of HTS numbers is available in the CORRELATION: Textile and Apparel Categories with the Harmonized Tariff Schedule of the United States (see Federal Register notice 64 FR 71982, published on December 22, 1999. Information regarding the 2001 CORRELATION will be published in the Federal Register at a later date.

Richard B. Steinkamp,
Chairman, Committee for the Implementation of Textile Agreements.

Committee for the Implementation of Textile Agreements

December 13, 2000.

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), you are directed to prohibit, effective on January 1, 2001, entry into the United States for consumption and withdrawal from warehouse for consumption of cotton, man-made fiber, silk blend and other vegetable fiber textiles and textile products in the following categories, produced or manufactured in India and exported during the twelve-month period beginning on January 1, 2001 and extending through December 31, 2001, in excess of the following levels of restraint:

Category | Twelve-month restraint limit
Levels in Group I |
218 | 19,121,200 square meters.
219 | 85,101,905 square meters.
313 | 51,161,252 square meters.
314 | 10,131,179 square meters.
315 | 17,016,322 square meters.
317 | 47,375,063 square meters.
326 | 10,479,527 square meters.
334/634 | 171,092 dozen.
335/635 | 761,700 dozen.
336/636 | 1,089,580 dozen.
338/339 | 4,401,129 dozen.
340/640 | 2,324,008 dozen.
341 | 4,723,878 dozen of which not more than 2,834,325 dozen shall be in Category 341-Y ¹.
342/642 | 1,542,444 dozen.
345 | 241,702 dozen.
347/348 | 777,632 dozen.
351/651 | 326,043 dozen.
363 | 56,499,852 numbers.
369-D ² | 1,595,943 kilograms.
369-S ³ | 870,514 kilograms.
641 | 1,795,799 dozen.
647/648 | 1,042,804 dozen.
Group II |
200, 201, 220-227, 237, 239pt.⁴, 300, 301, 331-333, 350, 352, 359pt.⁵, 360-362, 600-604, 606 ⁶, 607, 611-629, 631, 633, 638, 639, 643-646, 649, 650, 652, 659pt.⁷, 666, 669pt.⁸, 670, 831, 833-838, 840-858 and 859pt.⁹, as a group | 141,637,412 square meters equivalent.
¹ Category 341-Y: only HTS numbers 6204.22.3060, 6206.30.3010, 6206.30.3030 and 6211.42.0054.
² Category 369-D: only HTS numbers 6302.60.0010, 6302.91.0005 and 6302.91.0045.
³ Category 369-S: only HTS number 6307.10.2005.
⁴ Category 239pt.: only HTS number 6209.20.5040 (diapers).
⁵ Category 359pt.: all HTS numbers except 6406.99.1550.
⁶ Category 606: all HTS numbers except 5403.31.0040 (for administrative purposes Category 606 is designated as 606(1)).
⁷ Category 659pt.: all HTS numbers except 6406.99.1510 and 6406.99.1540.
⁸ Category 669pt.: all HTS numbers except 5601.10.2000, 5601.22.0090, 5607.49.3000, 5607.50.4000 and 6406.10.9040.
⁹ Category 859pt.: only HTS numbers 6115.19.8040, 6117.10.6020, 6212.10.5030, 6212.10.9040, 6212.20.0030, 6212.30.0030, 6212.90.0090, 6214.10.2000 and 6214.90.0090.

The limits set forth above are subject to adjustment pursuant to the provisions of the ATC and administrative arrangements notified to the Textiles Monitoring Body.

Products in the above categories exported during 2000 shall be charged to the applicable category limits for that year (see directive dated December 10, 1999) to the extent of any unfilled balances. In the event the limits established for that period have been exhausted by previous entries, such products shall be charged to the limits set forth in this directive.

In addition, effective on January 1, 2001, man-made fiber textile products in HTS 5403.31.0040 in Category 606, in Group II, produced or manufactured in India and exported during the twelve-month period beginning on January 1, 2001 and extending through December 31, 2001, shall not be subject to the Group II quota established for the 2001 period. A visa is still required for this product.

For U.S. Customs' administrative purposes, the remaining HTS numbers in Category 606 shall be designated Category 606(1) ¹⁰.

¹⁰ Category 606(1): all HTS numbers except 5403.31.0040 (Category 606(2)).

Also effective on January 1, 2001, you are directed to require, entry/entry summary procedures and you shall continue to count imports for consumption and withdrawals from warehouse for consumption of textile products in HTS number 5403.31.0040 in Category 606(2) ¹¹, produced or manufactured in India and exported during the periods January 1, 2000 through December 31, 2000 and January 1, 2001 through December 31, 2001.

¹¹ Category 606(2): only HTS number 5403.31.0040.

Inasmuch as these imports may later be charged against the Group II level, it is important that an accurate count be taken.

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,
Richard B. Steinkamp,
Chairman, Committee for the Implementation of Textile Agreements.

[FR Doc. 00-32290 Filed 12-18-00; 8:45 am]

BILLING CODE 3510-DR-F